DEPARTMENT OF ENERGY

Federal Energy Regulatory Commission

[Docket No. RP96-272-042]

Northern Natural Gas Company; Notice of Proposed Changes in FERC Gas Tariff

May 24, 2002.

Take notice that Northern Natural Gas Company (Northern) on May 13, 2002 tendered for filing to become part of Northern's FERC Gas Tariff, the following tariff sheet proposed to be effective on May 14, 2002:

Fifth Revised Volume No. 1

Nineteenth Revised Sheet No. 66A

The above sheet is being filed to implement a specific negotiated rate transaction with Dynegy Marketing and Trade in accordance with the Commission's Policy Statement on Alternatives to Traditional Cost-of-Service Ratemaking for Natural Gas Pipelines.

Northern further states that copies of the filing have been mailed to each of its customers and interested State Commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-13670 Filed 5-30-02; 8:45 am]

BILLING CODE 6717-01-P